NATIONAL AERONAUTICS AND SPACE ADMINISTRATION

[00-016]

Proposed Information Collection Activity; Comment Request

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). Information collection is required to ensure proper use of and disposition of rights to inventions made in the course of, and data developed under NASA contracts.

DATES: All comments should be submitted on or before April 10, 2000.

ADDRESSES: All comments should be addressed to Mr. Paul A. Boellner, Code Q, National Aeronautics and Space Administration, Washington, DC 20546-0001.

FOR FURTHER INFORMATION CONTACT: Ms. Carmela Simonson, NASA Reports Officer, (202) 358-1223.

Title: NASA Safety Reporting System.

OMB Number: 2700-0063.

Type of review: Extension.

Need and Uses: NASA employees and contractors can voluntarily and confidentially report to an independent agent, any safety concerns or hazards pertaining to any NASA program or project, which have not been resolved through the normal process.

Affected Public: Federal Government.

Number of Respondents: 75.

Responses Per Respondent: 1.

Annual Responses: 75.

Hours Per Request: ¼ hr.

Annual Burden Hours: 19 hrs.

Frequency of Report: As needed.

David B. Nelson,
Deputy Chief Information Officer, Office of the Administrator.

[FR Doc. 00-2868 Filed 2-8-00; 8:45 am]

BILLING CODE 7510-01-U